POSTAL SERVICE

Privacy Act of 1974; System of Records

AGENCY: Postal Service ™.

ACTION: Notice of modification to an existing system of records.

SUMMARY: The Postal Service proposes to revise the existing system of records entitled, “Address Change, Mail Forwarding, and Related Services, 800.000.” The modification clarifies the existing routine use relating to disclosure of customers' temporary changes of address to mailers; disclosure of changes of address to the American Red Cross; obtaining and sharing lists of individuals affected by disasters from other government agencies; disclosure of changes of address for domestic violence shelters; and allowances for alternative methods of customer authentication for the submission of change-of-address (COA) requests in times of emergencies as well as in the regular course of business.

Background: The basic function of the United States Postal Service® at all times, and especially during an emergency, is to bind the nation together through the delivery of postal services to the American public. The severity and magnitude of past catastrophic events have led to an evaluation of our records management policies. After careful review, the Postal Service believes that revisions to certain policies regarding disclosure of temporary changes of address to mailers, as well as disclosure of address information to the American Red Cross and other government agencies would be helpful, promote clarity and improve the provision of services to persons displaced by catastrophic events. Modifications to the system of records will be reflected in Categories of Individuals Covered by the System; Categories of Records in the System; Purposes of Such Uses; and Storage, Retention, and Disposal. The record source(s) for this system has also been amended to include commercially available source(s) of customer dates of birth. Date of birth information may be collected and used for verification purposes in the event credit/debit card information is not available for electronically submitted changes of address, and only in the event of a natural or manmade disaster as determined by the Postal Service. As a form of verification, credit/debit card information is currently required for both Internet and telephone COA submissions. As a way to accommodate the customer in times of disaster, and to maintain a level of protection for Postal Service customers from fraudulent submission, an alternative method (providing date of birth) was developed as a form of identification and verification.

In addition, the Postal Service continues to encourage the use of USPS.com® for secure and convenient online change-of-address submissions. The Postal Service currently requires a valid credit/debit card to authenticate a customer and to complete a change-of-address request online. We have found that many customers wish to use our online service; however, they are unable to because they do not possess the appropriate credit/debit card required for the authentication process. In order to accommodate those customers, the Postal Service plans to pilot test an alternative authentication option for online change-of-address submissions. The objective of the test is to determine, if given a choice, which types of identification customers prefer to provide as a method of authentication. For this test, customers will be offered a choice of authentication methods. They may continue to provide a credit/debit card OR as an alternative, they may choose to provide their driver's state and license number and their date of birth. If customers choose the latter, the customers' driver's state and license number and date of birth, along with their name and previous address, will be validated through the use of an authorized commercial database.

The test will be conducted for a limited period of time and will include a small sample set of customers requesting to change their address on USPS.com. At the completion of the test period, results will be analyzed to determine if the objectives have been met. If the test is determined to be successful, this process may be implemented nationally.

The privacy and security of the mail, including the change-of-address process is the core of the Postal Service brand. Over the course of its history, the Postal Service has built a trusted brand with the public. New technology and processes continue to be developed that bring added value and improved customer service to our networks. As always, the Postal Service will only use technology, or adapt technology, in a way that ensures that the privacy and security of the mail and its customers are maintained at the highest levels. The current proposal for change-of-address authentication is no exception. The USPS has carefully analyzed the need, usage, and benefits of an alternative authentication method, while establishing procedures that would properly address privacy and security needs.

The Postal Service has considered and incorporated privacy and security features regarding use of commercial source(s) for the collection and verification of driver's license information and date of birth. The Postal Service has limited the type and amount of data provided to the commercial source(s) to only name, previous address, date of birth, driver's state and license number (for non-emergency) and telephone number. The commercial source(s) will purge all personal information once the transaction is completed and will limit the data returned. No personal information will be returned; output fields will only contain confirmation of authentication.

In emergency situations, the Postal Service automated system will permit customers to enter their name and date of birth and will confirm this information. The customers' entry will be securely transmitted to the commercial database for verification. Strict limitations have also been placed around the use of the data by the Postal Service, as well as how data are provided to the commercial source(s).

When customers enter their information online at USPS.com to request either an emergency change of address or for the alternative authentication test, which are both covered by the Privacy Act, they will be provided details on how their information is protected through the Privacy Act Statement. If customers do not have a credit/debit card number to use as a form of identification/verification, they will be asked for their date of birth as an alternative in an emergency, or both driver's state and license number and date of birth as an additional authentication method in non-emergency situations. Customers may decline to provide this information and submit their change-of-address request via hard copy mail.

Two other revisions are also included in this notice. First, online user information for Internet change-of-address requests (to include Internet Protocol (IP) address, domain name, operating system versions, browser version, date and time of connection, and geographic location) is listed as a new record category. This information may be disclosed to law enforcement personnel in order to aid the United States Postal Inspection Service to investigate cases of fraudulent online activity.

Second, the Violent Crime Control and Law Enforcement Act of 1994, Public Law 103-322, 108 Stat. 1796, requires the Postal Service to “secure the confidentiality of domestic violence shelters and abused persons' addresses.” To further provide protection for address changes for domestic violence shelters and Court Ordered Protected Individuals (COPI), the Postal Service will revise routine uses “a” and “b” to clarify that domestic violence shelters may limit disclosure of their change-of-address information.

DATES: The revision will become effective without further notice on August 18, 2008 unless comments received on or before that date result in a contrary determination.

ADDRESSES: Comments may be mailed or delivered to the Records Office, United States Postal Service, 475 L'Enfant Plaza, SW., Room 5821, Washington, DC 20260-2200. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service has reviewed its systems of records and has determined that the Address Change, Mail Forwarding, and Related Services system should be revised to modify existing routine uses of records maintained in the system, including system location; categories of individuals covered by the system; categories of records in the system; purposes of such uses; storage, retention, and disposal; system manager(s) and address; and record source categories. Routine use for categories of users and the purposes of such uses covered by the system will be revised to provide clarification on how the information is disclosed during natural disasters and manmade hazards.

The Postal Service does not expect this amended notice to have any adverse effect on individual privacy rights.

“Privacy Act System of Records USPS 800.000” was originally published in the Federal Register on April 29, 2005 (70 FR 22517).

The Postal Service proposes amending the system as shown below:

USPS 800.000, Address Change, Mail Forwarding and Related Services

SYSTEM LOCATION:

Categories Of Individuals Covered By The System; Categories of Records In The System; Purposes; Routine Uses Of Records Maintained In The System, Including Categories Of Users And Purposes Of Such Uses; Storage, Retention And Disposal; System Manager(S); And Address And Record Source Categories:

* * * * *

System Location:

[Revise to read as follows:]

USPS National Customer Support Center (NCSC), Computerized Forwarding System (CFS) sites, Post Offices, USPS Processing and Distribution Centers, USPS IT Eagan Host Computing Services Center, and contractor sites.

Categories of Individuals Covered by the System:

[Revise to read as follows:]

Customers requesting change of address, mail forwarding, or other related services either electronically, in writing, or via telephone. Customers who are victims of a natural disaster who request mail forwarding services through the Postal Service or the American Red Cross.

Categories of Records in the System:

Item 2

[Revise item 2 to read as follows, renumber existing item 8 as item 9, and add new item number 8 as follows:]

* * * * *

2. Verification and payment information: Credit and/or debit card number, type, and expiration date; or date of birth and driver's state and license number; information for identity verification; and billing information. Customers who are victims of a natural disaster who request mail forwarding service electronically may be required to provide date of birth for verification if credit and/or debit card information is unavailable.

8. Online user information: Internet Protocol (IP) address, domain name, operating system versions, browser version, date and time of connection, and geographic location.

9. Protective Orders.

Purpose(s):

* * * * *

[Revise item 3 to read as follows:]

3. To provide address information to the American Red Cross or other disaster relief organization about a customer who has been relocated because of disaster.

* * * * *

[Add item 5 to read as follows:]

5. To support investigations related to law enforcement for fraudulent transactions.

Routine Uses of Records in the System, Including Categories of Users and the Purposes of Such Uses:

* * * * *

[Revise to read as follows:]

Standard routine uses 1 through 7, 10, and 11 apply. In addition:

a. Disclosure upon request. The new address of a specific business or organization that has filed a permanent change-of-address order may be furnished to any individual on request. (Note: The new address of an individual or family will not be furnished pursuant to this routine use, unless authorized by one of the standard routine uses listed above or one of the specific routine uses listed below.) If a domestic violence shelter has filed a letter on official letterhead from a domestic violence coalition stating (i) that such domestic violence coalition meets the requirements of 42 U.S.C. 10410 and (ii) that the organization filing the change of address is a domestic violence shelter, the new address shall not be released except pursuant to routine use d, e, or f pursuant to the order of a court of competent jurisdiction.

b. Disclosure for Address Correction. Disclosure of any customer's new permanent address may be made to a mailer, only if the mailer is in possession of the name and old address: From the National Change-of-Address Linkage (NCOALink®) file if the mailer is seeking corrected addresses for a mailing list; from the Computerized Forwarding System (CFS), from the Postal Automated Redirection System (PARS) if a mailpiece is undeliverable as addressed, or from the Locatable Address Conversion System if an address designation has been changed or assigned. Copies of change-of-address orders may not be furnished. In the event of a disaster or manmade hazard, temporary address changes may be disclosed to a mailer when, in the sole determination of the Postal Service, such disclosure serves the primary interest of the customer, for example, to enable a mailer to send medicines directly to the customer's temporary address, and only if the mailer is in possession of the customer's name and permanent address. If a domestic violence shelter has filed a letter on official letterhead from a domestic violence coalition stating (i) that such domestic violence coalition meets the requirements of 42 U.S.C. 10410 and (ii) that the organization filing the change of address is a domestic violence shelter, the new address shall not be released except pursuant to routine use d, e, or f pursuant to the order of a court of competent jurisdiction.

* * * * *

[Add item i as follows:]

i. Disclosure to a disaster relief organization. Any customer's permanent or temporary change of address may be disclosed to the American Red Cross or other disaster relief organizations, if that address has been impacted by disaster or manmade hazard.

Storage:

[Revise to read as follows:]

Records generated from the source document are recorded on the Forwarding Control System file server and on tapes at CFS units. Electronic change-of-address records and related service records are also stored on disk and/or magnetic tape in a secured environment. Change-of-address records are consolidated in a national change-of-address (NCOA) file at the USPS IT Eagan Host Computing Services Center. Selected extracts of NCOA are provided in the secure data format represented by the NCOALink product to a limited number of firms under contract or license agreement with USPS. Records pertaining to move-related services are also transmitted to specific service providers, including government agencies and private companies under contract to USPS.

Retention and Disposal:

[Revise to read as follows:]

1. National change of address and mail forwarding records are retained 4 years from the effective date.

2. Delivery units access COA records from the change-of-address Reporting System database, which retains 2 years of information from the COA effective date. The physical change-of-address order is retained in the CFS unit for 30 days if it was scanned, or 18 months if it was manually entered into the national database.

3. Online user information may be retained for 12 months. Records existing on paper are destroyed by shredding. Records existing on computer storage media are destroyed according to the applicable USPS media sanitization practice.

System Manager(s) and Address:

[Revise to read as follows:]

Vice President, Retail Operations, United States Postal Service, 475 L'Enfant Plaza, SW., Washington DC 20260.

Record Source Categories:

[Revise to read as follows:]

Customers, personnel, service providers, and, for call center operations, commercially available sources of names, addresses, telephone numbers. For emergency change-of-addresses only, commercially available sources of names, previous addresses, and dates of birth. For alternative authentication sources of names, previous and new addresses, dates of birth, and driver's state and license number.

* * * * *

Neva R. Watson,
Attorney, Government Relations, FOIA and Privacy.

[FR Doc. E8-16343 Filed 7-16-08; 8:45 am]

BILLING CODE 7710-12-P